NATIONAL SCIENCE FOUNDATION

Notice of Permit Applications Received Under the Antarctic Conservation Act of 1978 (Public Law 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 23, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-025

1. Applicant: Paul Koch, Department of Earth and Planetary Science, University of California, Santa Cruz

Activity for Which Permit Is Requested

Import to USA; The applicant seeks to collect small samples of fur, bone, and other tissue from mummified seals and penguins found in the McMurdo Dry valleys. Up to 75 mummified remains from each of four species (Weddell seal, leopard seal, southern elephant seal, crabeater seal) and up to 20 mummified Adélie penguin remains would be sampled. Based on previous studies, it is anticipated that all mummified remains will be several thousand years old. Samples would consist of small fragments and/or several hairs. Samples would be sent to the US for analyses including radio carbon dating, stable isotope analysis, and DNA extraction. Data would be used to reconstruct seal population dynamics, seal ecology, and oceanographic conditions.

Location

Mummified seal remains found exposed on the surface of the McMurdo Dry Valleys ASMA 2, specifically in the coastal region of the Royal Society Range.

Dates

Dates permit valid December 20, 2013 to May 20, 2013.

Nadene G. Kennedy,
Polar Coordination Specialist, Division of Polar Programs.

[FR Doc. 2013-28029 Filed 11-21-13; 8:45 am]

BILLING CODE 7555-01-P